DEPARTMENT OF HOMELAND SECURITY

Coast Guard

[CGD05-03-185]

Upper Chesapeake Estuary Area Committee Meeting, Preparedness for Response Exercise Program (PREP) Area Exercise; Captain of the Port Baltimore, MD

AGENCY: Coast Guard, DHS.

ACTION: Notice of meeting.

SUMMARY: The Captain of the Port Baltimore, MD will hold an Area Committee Meeting to discuss various issues related to the Upper Chesapeake Estuary Area Contingency Plan and 2004 industry-led Preparedness for Response Exercise Program (PREP) exercise. The meeting will not be open to the public.

DATES: The meeting will be held on Tuesday, December 16, 2003, from 1 p.m. to 4 p.m. The meeting may close early if all business is finished. Written material and requests to make oral presentations should reach the Coast Guard on or before December 9, 2003. Requests to have a copy of your material distributed to each member of the committee should reach the Coast Guard on or before December 9, 2003.

ADDRESSES: The Area Committee will meet in the Chesapeake Bay Foundation's conference Room, Phillip Merrill Environmental Center, 6 Herndon Avenue, Annapolis, MD.

Send written material and requests to make oral presentations to Commander, U.S. Coast Guard Activities, 2401 Hawkins Point Road, Baltimore, MD. 21226-0001. Comments and material received from the public, as well as documents indicated in this preamble as being available in the docket, are part of docket [CGD05-03-185] and are available for inspection or copying at U.S. Coast Guard Activities, 2401 Hawkins Point Road, Baltimore, MD 21226-0001.

FOR FURTHER INFORMATION CONTACT: Lieutenant Lisa Knopf, telephone 410-576-2657, or Lieutenant Leslie Wright, telephone 410-576-2657, of the Marine Environmental Response Division. Written material and requests may be faxed to 410-576-2688.

SUPPLEMENTARY INFORMATION: Section 4202 of the Oil Pollution Act of 1990 (OPA 90) amended Subsection (j) of Section 311 of the Federal Water Pollution Control Act (FWPCA) (33 U.S.C. 1321 (j)) to address the development of a National Planning and Response System. As part of this system, Area Committees (ACs) are to be established for each designated area. Area Committees are to be comprised of qualified personnel from federal, state, and local agencies and are exempted from Federal Advisory Committee Act (FACA), Public Law 92-436, 86 Stat. 470 (5 U.S.C. App.2). Each Area Committee under the direction of the Federal On-Scene Coordinator (FOSC) for the area is responsible for developing an Area Contingency Plan (ACP) in conjunction with the National Contingency Plan (NCP). The Coast Guard COTP Baltimore is holding a meeting, in order to review the ACP and develop the Area Planning for Response and Exercise Program (PREP) industry lead exercise. This meeting will offer an opportunity to comment on the ACP and the PREP exercise.

Agenda of Meeting

The agenda includes the following:

(1) Presentation on the Unified Command response to the M/V Seawitch.

(2) Presentation on USCG role in the Maritime Transportation Security Act.

(3) Update on area's scheduled Industry-Led PREP exercise.

(4) Open Forum.

Procedural

The meeting is not open to the public. Requests to attend the meeting may be submitted to the Coast Guard under ADDRESSES. Requests should include Name, Company or Agency, Address, Phone, Fax, and E-mail. Please note that the meeting may close early if all business is finished. At the Captain of the Port's discretion, attendees may make oral presentations during the meeting. If you would like to make an oral presentation at the meeting, please notify Lieutenant Wright listed under FOR FURTHER INFORMATION CONTACT no later than December 9, 2003. Written material for distribution at the meeting should reach the Coast Guard no later than December 9, 2003. If you would like a copy of your material distributed at the meeting, please submit 25 copies to the Coast Guard listed under ADDRESSES no later than December 9, 2003.

Information on Services for Individuals with Disabilities

For information on facilities or services for individuals with disabilities or to request special assistance at the meeting, contact the Lieutenant Wright listed under FOR FURTHER INFORMATION CONTACT as soon as possible.

Dated: November 14, 2003.
Curtis A. Springer,
Captain, U.S. Coast Guard, Captain of the Port, Baltimore, Maryland.

[FR Doc. 03-29843 Filed 11-28-03; 8:45 am]

BILLING CODE 4910-15-P